DEPARTMENT OF ENERGY

Federal Energy Regulatory Commission

[Docket No. RP02-545-000]

Maritimes & Northeast Pipeline, L.L.C.; Notice of Proposed Changes in FERC Gas Tariff

September 19, 2002.

Take notice that on September 13, 2002, Maritimes & Northeast Pipeline, L.L.C. (Maritimes) tendered for filing as part of its FERC Gas Tariff, First Revised Volume No. 1, the following tariff sheets to become effective on October 1, 2002:

Third Revised Sheet No. 12

Third Revised Sheet No. 13

Third Revised Sheet No. 14

First Revised Sheet No. 297

Maritimes proposes to revise Section 21.2, “Rate Schedules Subject to ACA Surcharge”, of the General Terms and Conditions of Maritimes FERC Gas Tariff, First Revised Volume No. 1, and its MNLFT Rate Tariff Sheets Nos. 12, 13 and 14 to state that the Annual Charge Adjustment (ACA) Unit Surcharge will only be assessed once on the same volume of gas transported on Maritimes pipeline system. A MNLFT Customer transporting gas volumes under a MNLFT Rate Schedule will only be assessed an ACA Surcharge when the MNLFT Customer does not pay an ACA Surcharge for the same volumes of gas transported under another Maritimes rate schedule.

Maritimes states that copies of this filing were served on all affected customers of Maritimes and interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-24330 Filed 9-25-02; 8:45 am]

BILLING CODE 6717-01-P